ENVIRONMENTAL PROTECTION AGENCY

[EPA-HQ-OPP-2006-0589; FRL- 8079-6]

Cancellation of Pesticides for Non-payment of Year 2006 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee that was due January 15, 2006 has gone unpaid for 720 registrations. Section 4(i)(5)(G) of FIFRA provides that the Administrator may cancel these registrations by order and without a hearing; orders to cancel all 720 of these registrations have been issued within the past few days.

FOR FURTHER INFORMATION CONTACT: For further information on the maintenance fee program in general, contact by mail: John Jamula, Office of Pesticide Programs (7504P), Environmental Protection Agency, 1200 Pennsylvania Avenue NW, Washington, DC 20460; telephone number: (703) 305-6426; e-mail address: jamula.john@epa.gov

SUPPLEMENTARY INFORMATION:

I. Important Information

A. Does this Action Apply to Me?

You may be potentially affected by this notice if you are an EPA registrant with any approved product registration(s). Although this action may be of particular interest to persons who produce or use pesticides, the Agency has not attempted to describe all the specific entities that may be affected by this action. If you have any questions regarding the information in this notice, consult the person listed in the FOR FURTHER INFORMATION CONTACT section.

B. How Can I Get Copies of this Document and Other Related Information?

1. Docket. EPA has established a docket for this action under docket identification (ID) number EPA-HQ-OPP-2006-0589. Publicly available docket materials are available either in the electronic docket at http://www.regulations.gov, or, if only available in hard copy, at the Office of Pesticide Programs (OPP) Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Introduction

Section4(i)(5) of FIFRA as amended in October 1988 (Public Law 100-532), December, 1991 (Public Law 102-237), and again in August 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when he determines that the fee would be likely to cause significant impact on the availability of the pesticide for the use. The Agency has waived the fee for 177 minor agricultural use registrations at the request of the registrants.

In fiscal year 2006, maintenance fees were collected in one billing cycle. The Pesticide Registration Improvement Act (PRIA) was passed by Congress in January 2004. PRIA became effective in March 2004 and authorized the Agency to collect $27 million in maintenance fees in fiscal year 2006. In late December 2005, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations. Since mailing the notices, EPA has maintained a toll-free inquiry number through which the questions of affected registrants have been answered.

Maintenance fees have been paid for about 15,590 section 3 registrations, or about 96 percent of the registrations on file in December. Fees have been paid for about 2,181 section 24(c) registrations, or about 84 percent of the total on file in December. Cancellations for non-payment of the maintenance fee affect about 451 section 3 registrations and about 269 section 24(c) registrations.

The cancellation orders generally permit registrants to continue to sell and distribute existing stocks of the canceled products until January 15, 2007, one year after the date on which the fee was due. Existing stocks already in the hands of dealers or users, however, can generally be distributed, sold or used legally until they are exhausted. Existing stocks are defined as those stocks of a registered pesticide product which are currently in the United States and which have been packaged, labeled and released for shipment prior to the effective date of the action. These general provisions for disposition of stocks should serve in most cases to cushion the impact of these cancellations while the market adjusts.

The exceptions to these general rules are cases where more stringent restrictions on sale, distribution, or use of the products have already been imposed through special reviews or other Agency actions.

III. Listing of Registrations Canceled for Non-payment

Table 1 lists all of the section 24(c) registrations, and Table 2 lists all of the section 3 registrations which were canceled for non-payment of the 2006 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN no. | Product Name
000264 AL-89-0008 | Monitor 4 Spray
000279 AL-94-0007 | Pounce 3.2 EC Insecticide
000279 AR-03-0001 | Pounce 3.2 EC Insecticide
010163 AR-05-0007 | Moncut 4SC
000264 AR-89-0005 | Monitor 4 Spray
000279 AR-89-0012 | Pounce 3.2 EC Insecticide
062719 AR-93-0006 | Diathane DF Agricultural Fungicide
000279 AR-94-0004 | Pounce 3.2 EC Insecticide
001812 AR-96-0003 | Cotton-Pro Flowable Herbicide
062719 AZ-02-0005 | Goal 2XL Herbicide
079709 AZ-03-0005 | Kerb 50W Herbicide In WSP
036029 AZ-05-0002 | Ground Squirrel Bait By Wilco
004581 AZ-79-0010 | Hydrothol 191
062719 AZ-79-0036 | Kerb 50-W Selective Herbicide
000264 AZ-88-0028 | Sencor DF 75% Dry Flowable Herbicide
062719 AZ-96-0011 | Goal (r) 2XL Herbicide
062719 AZ-96-0012 | Goal (r) 2XL Herbicide
000100 AZ-99-0008 | Endurance Herbicide
000352 CA-00-0007 | Dupont Oust Herbicide
071711 CA-04-0017 | Applaud 70WP Insect Growth Regulator
000264 CA-05-0003 | Admire 2 Flowable Insecticide
000241 CA-05-0019 | Raptor Herbicide
000264 CA-76-0019 | Di-Syston 15% Granular Systemic Insecticide
060204 CA-76-0045 | Dow Formula 40
000264 CA-77-0036 | Di-Syston Liquid Concentrate Systemic Insecticide
059623 CA-77-0078 | Geigy Diazinon 50W (50% Wettable Powder) Insecticide
000264 CA-78-0189 | Monitor 4 Spray
000264 CA-79-0096 | Monitor 4 Spray
000279 CA-82-0081 | Pounce 3-2EC
062719 CA-83-0065 | Goal 1.6E Herbicide
000279 CA-84-0214 | Ammo 2.5 EC Insecticide
000279 CA-85-0044 | Ammo 2.5 EC Insecticide
000279 CA-86-0041 | Pounce 3.2 EC Insecticide
062719 CA-88-0034 | Goal 1.6E Herbicide
059623 CA-89-0021 | Rodent Bait Block - Diphacinone Treated Grain/paraffin
059623 CA-89-0026 | Rodent Bait Zinc Phosphide Treated Grain (1%)
063201 CA-89-0030 | Ronilan Fungicide 50W
000100 CA-91-0022 | Gramoxone Extra Herbicide
060204 CA-91-0032 | Capture 2EC-Cal
000100 CA-92-0006 | Gramoxone Extra Herbicide
062719 CA-92-0018 | Goal 1.6E Herbicide
062719 CA-92-0029 | Goal 1.6E Herbicide
010707 CA-93-0006 | Magnacide H Herbicide
062719 CA-93-0014 | Goal 1.6E Herbicide
000100 CA-94-0029 | Diquat Herbicide
063232 CA-95-0005 | Metasystox-R Spray Concentrate
062719 CA-97-0010 | Success
008133 CA-97-0034 | Formaldehyde Solution 37
068891 CA-98-0007 | Enzone
000264 CO-02-0003 | Balance Herbicide
000352 CO-05-0002 | Dupont Authority Herbicide
062719 CT-01-0001 | Goal 2XL Herbicide
000241 CT-04-0001 | Acrobat MZ Fungicide
062719 CT-98-0001 | Telone EC
000264 DE-92-0002 | Monitor 4 Spray
071711 FL-03-0013 | Courier Insect Growth Regulator
063935 FL-04-0001 | Dupont Escort Herbicide
000264 FL-04-0013 | Aliette WDG Fungicide
000264 FL-89-0007 | Monitor 4 Spray
000264 FL-89-0041 | Monitor 4 Spray
000264 FL-92-0004 | Monitor 4 Spray
062719 FL-96-0008 | Dithane DF Agricultural Fungicide
068891 FL-96-0011 | Enquik
062719 FL-98-0002 | Tracer
000279 FL-99-0001 | Pounce 3.2 EC Insecticide
001812 FL-99-0002 | Direx 80DF
001812 GA-01-0001 | Fluridone SC
000279 GA-05-0004 | Quicksilver T & O
000264 GA-86-0004 | Monitor 4 Spray
000279 GA-93-0008 | Pounce 3.2 EC Insecticide
001812 GU-04-0001 | Kocide 4.5 LF
001812 HI-00-0002 | Direx 4L
062719 HI-00-0003 | Gf - 120 Fruit Fly Bait
062719 HI-02-0006 | Goal 2XL Herbicide
047893 HI-03-0005 | Livingston's Nature-Ripe TM
062719 HI-96-0010 | Goal (r) 2XL Herbicide
062719 HI-99-0002 | Goal 2XL Herbicide
062719 IA-99-0001 | Transline
000352 ID-00-0019 | Dupont Oust Herbicide
010163 ID-01-0003 | Moncut 50WP
001812 ID-02-0015 | Equus DF
071711 ID-03-0005 | Moncut SC
079639 ID-03-0010 | Roundup Herbicide
061282 ID-05-0010 | Prozap Zinc Phosphide Pellets
002393 ID-86-0018 | Ramik Brown
000264 ID-87-0004 | Sencor 4 Flowable Herbicide
000264 ID-87-0005 | Sencor DF 75% Dry Flowable Herbicide
000264 ID-93-0010 | Scout X-TRA Insecticide.
034704 ID-94-0010 | Vine-Der
007173 ID-96-0012 | Rozol Pellets
001812 ID-97-0004 | Linex 50 DF
010163 IL-04-0003 | Imidan 70-W
000279 IN-05-0001 | Quicksilver T & O
000264 IN-93-0003 | Monitor 4 Spray
000264 KS-01-0001 | Balance 4SC Herbicide
000264 KS-01-0002 | Stratego Fungicide
000264 KS-99-0003 | Balance Herbicide
000264 KS-99-0004 | Epic
062719 KY-00-0002 | Tracer
062719 KY-03-0001 | Tracer
062719 KY-94-0002 | Dithane Df Agricultural Fungicide
001812 LA-00-0013 | Griffin Linuron 4L Flowable Weed Killer
001812 LA-00-0015 | Linex 50 DF
010163 LA-04-0005 | Moncut 4SC
058779 LA-05-0011 | Vaprox Hydrogen Peroxide Sterilant
000264 LA-91-0008 | Monitor 4
000279 LA-97-0002 | Pounce 3.2 EC Insecticide
010163 LA-97-0004 | Imidan 70-WP Agricultural Insecticide
062719 LA-99-0009 | Confirm 2F Agricultural Insecticide
000264 LA-99-0011 | Monitor 4 Spray
001812 LA-99-0015 | Cotton-Pro Flowable Herbicide
007173 MD-78-0007 | Rozol Paraffinized Pellets
000524 ME-03-0005 | Accord Concentrate Herbicide
000352 ME-05-0502 | Dupont Assure II Herbicide
034704 ME-93-0004 | Clean Crop Dimethoate 400
007969 MI-05-0006 | Facet 75 DF Herbicide
007173 MI-77-0014 | Rozol Paraffinized Pellets
034704 MI-87-0003 | Captan 50 Wettable Fungicide
062719 MN-02-0006 | Goal 2XL Herbicide
007870 MN-04-0003 | Azone 15
000100 MN-05-0005 | Callisto
062719 MN-94-0005 | Transline Herbicide
000352 MN-95-0006 | Dupont Oust Herbicide
062719 MN-97-0002 | Transline
068573 MP-05-0001 | Fosphite Fungicide
001812 MP-05-0002 | Kocide 4.5 LF
001812 MS-00-0003 | Griffin Linuron 4L Flowable Weed Killer
000279 MS-00-0006 | Pounce 3.2 EC Insecticide
001812 MS-00-0011 | Linex 50 DF
000352 MS-01-0025 | Dupont Glyphosate Herbicide
005481 MS-01-0032 | Aztec 4.67% Granular
001812 MS-01-0034 | Direx 4L
001812 MS-01-0035 | Direx 80DF
066222 MS-02-0018 | Galigan 2E
058779 MS-05-0022 | Vaprox Hydrogen Peroxide Sterilant
000264 MS-83-0013 | Monitor 4 Spray
034704 MS-90-0012 | Clean Crop Amine 4 2,4-D Weed Killer
034704 MS-91-0007 | Savage 2,4-D Broadleaf Herbicide
001812 MS-96-0006 | Cotton-Pro Flowable Herbicide
072113 MS-99-0005 | Permethrin 3.2 TC
001812 MT-02-0001 | Equus DF
062719 MT-02-0002 | Goal 2XL Herbicide
062719 MT-98-0006 | Stinger
000279 NC-01-0005 | Pounce 3.2 EC Insecticide
000279 NC-05-0002 | Quicksilver T & O Herbicide
007173 NC-77-0020 | Rozol Paraffinized Pellets
007969 NC-81-0023 | Basagran
000279 NC-92-0013 | Pounce 3.2 EC Insecticide
062719 NC-94-0001 | Dithane DF Agricultural Fungicide
062719 ND-00-0001 | Sonalan 10G
062719 ND-00-0002 | Sonalan HFP
062719 ND-00-0004 | Stinger
062719 ND-01-0008 | NAF-545
001812 ND-02-0004 | Equus DF
062719 ND-03-0005 | Vista
062719 ND-03-0006 | Vista
062719 ND-05-0004 | Glyphomax XRT
000352 ND-05-0006 | Dupontauthority Herbicide
000100 ND-05-0007 | Callisto
062719 ND-94-0001 | Transline Herbicide
000352 ND-97-0002 | Velpar DF Herbicide
000352 NE-05-0001 | Dupont Authority Herbicide
000100 NE-05-0002 | Callisto
059639 NJ-96-0005 | Orthene 75 Wsp (insecticide In A Water Soluble Bag)
062719 NM-04-0001 | Lock-On
062719 NM-04-0002 | Lock-On
062719 NM-95-0001 | Lorsban 50W Insecticide In Water Soluble Packets
008133 NV-03-0004 | Formaldehyde Solution 37
000352 NV-99-0009 | Dupont Oust Herbicide
062719 NY-00-0001 | Confirm 2F Agricultural Insecticide
001812 NY-00-0002 | Fluridone SC
062719 NY-02-0002 | Lorsban-4E
062719 NY-02-0003 | Lorsban 15G
062719 NY-04-0002 | Quintec
062719 NY-04-0004 | Stinger
007173 NY-94-0007 | Rozol Pellets
000264 OH-79-0010 | Monitor 4 Spray
000279 OK-83-0018 | Pounce 3.2 EC
007501 OK-93-0001 | Tops 90
000524 OK-93-0006 | Lasso II Granular Herbicide By Monsanto
000279 OR-00-0004 | Aim Herbicide
000264 OR-02-0006 | Ethrel Brand Ethephon Plant Regulator
000264 OR-02-0011 | Rovra (r) Brand 4 Flowable Fungicide
000264 OR-02-0012 | Rovral (r) Fungicide
000100 OR-04-0012 | Tilt Gel Fungicide
000264 OR-05-0003 | Rovral Fungicide
061282 OR-05-0021 | Prozap Zinc Phosphide Pellets
012455 OR-05-0022 | ZP Rodent Bait Ag
004271 OR-05-0023 | Zinc Phosphide on Oats
000264 OR-80-0063 | Nemacur 3 Emulsifiable Nematicide
000264 OR-81-0039 | Sencor 4 Flowable Herbicide
000264 OR-81-0040 | Sencor 75 Wettable Granular Herbicide
000264 OR-84-0032 | Di-Syston 8
007173 OR-84-0048 | Rozol Paraffinized Pellets
000264 OR-85-0019 | Sencor 4 Flowable Herbicide
062719 OR-88-0012 | Kelthane MF Agricultural Miticide
000264 OR-91-0027 | Di-Syston 8
000264 OR-93-0012 | Bayleton 50% Wettable Powder
010707 OR-95-0002 | Magnacide H Herbicide
000352 OR-95-0005 | Dupont Oust Herbicide
002393 OR-95-0021 | Hopkins Zinc Phosphide Pellets
062719 OR-95-0023 | Transline
000264 OR-99-0001 | Admire 2 Flowable
068891 OR-99-0030 | Propel Plant Growth Regulator
068891 OR-99-0031 | Propel Plant Growth Regulator
000264 OR-99-0049 | Guthion Solupak 50% Wettable Powder Insecticide
007173 PA-80-0045 | Rozol Paraffinized Pellets
001812 PR-01-0002 | Eguus 720 Flowable Fungicide (chlorothalonil)
000100 RI-05-0004 | Caparol 4L Herbicide
000279 SC-05-0002 | Quicksilver T & O
007173 SC-78-0002 | Rozol Paraffinized Pellets
000264 SC-78-0016 | Monitor 4 Spray
000264 SC-81-0018 | Sencor 75 DF Herbicide
000279 SC-92-0002 | Pounce 3.2 EC Insecticide
000352 SC-95-0001 | Dupont Oust Herbicide
000264 SD-00-0002 | Axiom DF Herbicide
000264 SD-00-0005 | Flufenacet DF Herbicide
000100 SD-05-0005 | Callisto
062719 SD-96-0007 | Goal (r) 2XL Herbicide
000352 SD-97-0001 | Velpar DF Herbicide
000264 SD-99-0002 | Epic DF Herbicide
001812 TN-00-0006 | Linex 50 DF
000279 TN-03-0003 | Pounce 3.2 EC Insecticide
000264 TN-04-0006 | Monitor 4 Spray
000264 TN-88-0004 | Monitor 4 Spray
000279 TN-91-0003 | Pounce 3.2 EC Insecticide
062719 TN-94-0001 | Lorsban 4E-HF
001812 TX-00-0011 | Direx 80DF
000264 TX-90-0004 | Di-Syston 8
000264 TX-91-0012 | Monitor 4 Spray
000279 TX-97-0012 | Pounce 3.2 EC Insecticide
007173 VA-77-0015 | Rozol Paraffinized Pellets
000279 VA-91-0002 | Pounce 3.2 EC Insecticide
000264 VA-93-0002 | Monitor 4 Spray
062719 VA-98-0001 | Tracer
000264 VT-05-0007 | Sencor DF 75% Dry Flowable Herbicide
000352 WA-00-0008 | Dupont Oust Herbicide
062719 WA-00-0011 | Nu-Flow M Seed Treatment Fungicide
010163 WA-00-0022 | Prokil Dimethoate E267
062719 WA-00-0029 | Dithane DF Agricultural Fungicide
001812 WA-00-0036 | Linex 50 DF
000264 WA-01-0031 | Stratego Fungicide
000264 WA-01-0039 | Axiom DF Herbicide
000264 WA-02-0011 | Axiom DF Herbicide
062719 WA-02-0025 | DMA 4 Herbicide
000279 WA-03-0009 | Aim Herbicide
007173 WA-78-0061 | Rozol Paraffinized Pellets
000264 WA-84-0036 | Di-Syston 8
000352 WA-93-0002 | Dupont Krovar I Df Herbicide
000264 WA-93-0003 | Sencor DF 75% Dry Flowable Herbicide
000264 WA-94-0041 | Sencor DF 75% Dry Flowable Herbicide
000352 WA-95-0021 | Dupont Oust Herbicide
002393 WA-95-0022 | Hopkins Zinc Phosphide Pellets
005481 WA-96-0010 | Vapam HL
062719 WA-96-0034 | Goal (r) 2XL Herbicide
000264 WA-97-0003 | Sencor DF 75% Dry Flowable Herbicide
062719 WA-97-0023 | Goal (r) 2XL Herbicide
000264 WA-98-0004 | Di-Syston 15% Granular Systemic Insecticide
000524 WI-04-0002 | Roundup Weathermax Herbicide
034704 WI-05-0004 | Diazinon G-14
000352 WI-96-0001 | Dupont Oust Herbicide
062719 WI-96-0009 | Goal (r) 2XL Herbicide
062719 WI-97-0004 | Transline
010163 WY-00-0003 | Supracide 2E Insecticide-Miticide
062719 WY-02-0004 | Goal 2XL Herbicide
000352 WY-92-0001 | Dupont Velpar L Herbicide
062719 WY-97-0001 | Sonalan HFP
062719 WY-98-0001 | Goal (r) 2XL Herbicide
007969 WY-98-0002 | Basagran Herbicide

Table 2.—Section 3 Registrations Canceled for Non-Payment of Maintenance Fee
Registration no. | Product Name
000100-00841 | Elcar Biological Insecticide
000100-01151 | Quadris/Ridomil Gold Twin-Pak
000148-01148 | Freestyle Algaetrol-76
000228-00185 | Riverdale Tri-Ester
000228-00203 | Riverdale Weed and Feed with Mcpa & Mecoprop
000228-00205 | Riverdale Tri-Ester Tm II
000241-00268 | Prowl DG Herbicide
000241-00291 | Prowl Herbicide Flaked
000241-00338 | Pentagon 60 DG Herbicide
000264-00643 | Whip Technical
000264-00648 | Whip 0.75 EC Herbicide
000264-00933 | Gustafson Tops 2.5d
000264-00954 | Tops 5 Potato Seed-Piece Treatment
000303-00092 | Quanto Germicidal Detergent
000346-00041 | Russell/Dual Chain
000498-00139 | Spraypak Flying & Crawling Insect Killer 2
000498-00166 | Spraypak Indoor Insect Fogger, Formula 7
000506-00179 | Tat Roach & Ant Killer with Residual Action IV
000506-00182 | Tat Crawling Insect Killer
000506-00183 | Tat Te Wasp & Hornet Spray
000507-00006 | Premeasured Timsen Bar Sanitizer
000507-00010 | Unit Duo-Bact Disinfectant & Deodorant Beads
000524-00296 | Lasso II Herbicide
000524-00403 | Partner WDG Herbicide
000524-00432 | Expedite Grass & Weed Herbicide
000524-00433 | Militia Herbicide
000524-00436 | Roundup Dry Pak Herbicide Water Soluble Granule
000524-00449 | Expedite Grass & Weed Plus Herbicide
000524-00450 | Expedite Grass and Weed II Herbicide
000524-00477 | Roundup E Z Dry Herbicide
000524-00508 | Mon 77859 Hebicide
000524-00514 | Mon 78063
000524-00518 | Roundup Problend Herbicide
000524-00521 | Mon 78128 Herbicide
000524-00540 | Mon 78404 Herbicide
000527-00126 | Nix
000773-00087 | Aurimite
000806-00016 | Avon Sss Skin-So-Soft Bug Guard Plus IR3535 Insect Repellent
000891-00174 | Yarmor 302 Pine Oil
000891-00175 | Herco Pine Oil
000891-00176 | Yarmor 302W Pine Oil
000891-00181 | Hercules Yarmor 60 Pine Oil
001001-00014 | Methar 30 Disodium Methanearsonate Liquid Crabgrass Killer
001021-00501 | Pyrocide Intermediate No. 5561
001021-00537 | Pyrocide Intermediate 5582
001021-00579 | Pyrocide Intermediate 5858
001021-00633 | Pyrocide Intermediate No.6057
001021-00663 | Pyrocide Intermediate No. 6151
001021-00787 | Pyrocide Intermediate No. 6496
001021-00788 | Pyrocide (r) Intermediate No. 6494
001021-00924 | Synergized Pyrethrin Spray for Mills, Food Plants & Home
001021-01018 | Pyrocide Intermediate 6914
001021-01102 | D-Trans Intermediate 1837
001021-01263 | Pyrocide Fogging Concentrate 7167
001021-01301 | Pyrocide Fogging Concentrate 7206
001021-01302 | Pyrocide Fogging Formula 7207
001021-01391 | Multicide Concentrate 2120
001021-01392 | Multicide (r) Intermediate 2121
001021-01395 | Multicide (r) Mix 2167
001021-01400 | Multicide Concentrate 2154
001021-01402 | Multicide Fogging Formula 2170
001021-01403 | Multicide Intermediate 2079
001021-01406 | Multicide Concentrate 2189
001021-01410 | Multicide Fogger and Contact Spray 2198
001021-01468 | Multicide Intermediate 2277
001021-01479 | Multicide Intermediate 2292
001021-01508 | Multicide Intermediate 2322
001021-01565 | Evercide Residual Insecticide Concentrate 2457
001021-01574 | Multicide Fogging Concentrate 2469
001021-01609 | Multicide Fogging Concentrate 2468
001021-01738 | Evercide Synergized Permethrin Pour-On 2781
001021-01744 | Evercide Permethrin Pour-On 2780
001043-00083 | Coverage Spray Disinfectant Cleaner
001072-00016 | Surge Liquatone Sanitizer for Dairy Sanitation
001270-00171 | Zep Amine A
001270-00183 | Zep Spirit Germicidal Cleaner and Disinfectant
001270-00229 | Zep Fs Amine B
001270-00246 | Zep Attack A
001270-00248 | Zep Tox Wasp and Hornet Spray
001317-00068 | IODU
001317-00083 | Fly Foil Spray
001386-00587 | Unico Mcpa 4 Amine Weed Killer
001448-00028 | Busan 72a
001448-00082 | Busan 71
001448-00099 | Busan 1070
001448-00151 | T-10-1
001448-00244 | T-10-2
001448-00368 | Busan 1253 for Soapwrap Application
001448-00383 | Busan 1146
001448-00393 | Busan 1127 RTU
001448-00402 | TCMTB-60E
001448-00404 | TCMTB-WE60
001448-00406 | TCMTB-XE
001475-00145 | Naphthalene
001677-00066 | Kancel
001677-00169 | Monarch 400 Sanitizer
002230-00053 | DDDS Lemon
002230-00054 | DDDS Wintergreen
002230-00057 | DDDS Pine Scent
002382-00129 | Ultra-Sect “r” IGR Flea & Tick Mist
002623-00004 | Everpure Bacteriostatic Water Filter (model QC4-DC)
002623-00005 | Everpure Bacteriostatic Replacement Filter Cartridge
002749-00059 | Diuron 80 WP Weed Killer
002935-00083 | Wilbur-Ellis Malathion 8 Spray
002935-00520 | Digon 400
002935-00529 | Botran 6% Dust
002935-00540 | Potato Seed Treater Fungicide
003090-00168 | Sanitized Brand Hygienic Spray S-1 for Industrial Use
003090-00178 | Sanitized Brand XTX Bacteriostatic Chemical
003090-00196 | Sanitized Brand OA-P
003090-00216 | Sanitized Brand MBP 96 61
003546-00036 | Shoo-Fly Multipurpose Insect Spray
003546-00039 | Sport Mosquito & Tick Stop
003837-00024 | Broma Weed Killer
003838-00036 | Quat 44
003838-00037 | Quat Rinse
003838-00042 | Quat 256
003838-00046 | Acid Free Restroom Cleaner
003838-00050 | Nutral Q
003838-00051 | Quat 20
003862-00109 | Swat Flying Insect Killer
003862-00122 | Multi-Purpose Aqueous Insecticide Spray
003862-00162 | B.B.C.
003862-00168 | 4.5 Disinfectant/Detergent
003862-00169 | Gittem Gottem 0.25% Liquid Insecticide Spray
004000-00048 | Lemon Bathroom Cleaner & Disinfectant
004001-00003 | Triclosan
004170-00008 | Betco Pine Odor
004170-00014 | Betco 256
004170-00036 | Forest 5
004170-00068 | Sure Bet
004170-00080 | Wasp & Hornet Killer
004170-00081 | Flying Insect Killer
004482-00012 | End-Germ
004482-00015 | Dical
004581-00201 | Aquathol Granular Aquatic Herbicide
004713-00001 | Pyrethrum Extract
004787-00037 | Cyren MUC
004787-00039 | Cyren 150 Concentrate
004787-00045 | Atrapa ULV
004787-00047 | Griffin Methyl Parathion MUP
004808-00005 | Additive MC
004823-00004 | Sentinel
005174-00022 | Sani Kleen II
005383-00092 | Troysan Polyphase 582
005383-00095 | Troysan Polyphase 598
005383-00096 | Troysan Polyphase 587
005481-00058 | Sevin Brand Carbaryl Insecticide 5% Dust
005481-00065 | Alco Sevin-Sevin Brand Carbaryl Insecticide 50W
005481-00089 | Durham Carbaryl Granules 10
005481-00090 | Durham Carbaryl Insecticide 5% Granules
005481-00095 | Durham End of Trail Snail-Slug & Insect Granules
005481-00097 | Alco Snail, Slug and Sowbug Killer
005481-00098 | Durham Carbaryl Dust 5
005481-00100 | Durham Carbaryl Metaldehyde Granules 5-2.5
005481-00102 | Durham Duragon 2.67 Systemic Insecticide
005481-00108 | Durham Carbaryl Dust 10
005481-00190 | Sevin Brand Carbaryl Insecticide Dust Concentrate 46
005481-00242 | Kon-Trold Roost Paint and Cage Spray
005481-00253 | 5% Sevin Dust
005481-00271 | Royal Brand Sevin 50% Wettable
005481-00275 | Two Way Vegetable Dust
005481-00282 | Royal Brand Sevin 2% Garden Dust
005481-00283 | Carbaryl Maneb Tomato and Potato Dust
005481-00294 | 10% Sevin Dust
005481-00312 | 7.5% Sevin Dust
005481-00321 | Copper Dust with 2% Carbaryl
005481-00323 | Royal Brand Tomato Dust
005481-00451 | Snail, Slug & Sowbug Killer for Lawn & Garden
005991-00007 | Time-Saver Detergent-Sanitizer Iodophor Type
005991-20002 | Time-Saver Liquid Bactericide
006885-00005 | Maintex DDC
006959-00077 | Cessco 5 Aerosol Insecticide
006959-00078 | Cessco 7 Aerosol Insecticide
006973-00029 | Soilserv Bacillus Pellets
007001-00377 | Turf Fertilizer with .107% Dimension
007001-00378 | Turf Fertilizer with .172% Dimension
007001-00379 | Turf Fertilizer with 0.086% Dimension
007001-00380 | Lange Turf Formula Dimension 143 Preemergence Weed Control
007001-00381 | Lange Turf Formula Dimension 125 Preemergence Weed Control
007001-00382 | PCNB 12.5%
007048-00002 | Bio Magic Rinse Powder
007401-00318 | Ferti-Lome Premergent Weed and Grass Control
007616-00077 | KT Granular Algicide
008033-00027 | Adjust Brand 70WP Insecticide
008133-00017 | Bactron K-22
008133-00025 | Bactron K-50
008133-00029 | Bactron K-78 Microbiocide
008133-00031 | Bactron K-89 Microbiocide
008155-00011 | High Dilution Quaternary Husky 801 H/D/Q Germicidal Cleaner
008503-00015 | Pine Scent II
008637-00007 | Mitco CC-12l Algicide
008764-00012 | Freshgard 500
008764-00040 | Sta-Fresh 451
008791-00050 | E-Z Clor Hypochlor Chlorinating Tablets
009603-00001 | Stakill Diuron and Bromacil Weed Killer
009616-00009 | Vertex Css-10
009779-00206 | Dimate 2.67
009804-00010 | Perlox
009829-00008 | MPG
009868-00002 | Anker Marine Paints Antifouling, Cold Plastic
009886-00013 | Uniclean 60/85
009886-00014 | Uniclean 80/85
009886-00019 | Uniclean 25/85
010039-20202 | Neva-Mor Roach-Dead Powder
010088-00020 | Spray-Fog
010088-00062 | Cockroach Killer
010088-00084 | Residual Insecticide
010380-00001 | Bleach By Beacon
010404-00070 | Eliminate 47% Dg Selective Broadleaf Herbicide.
010465-00038 | Supatimber Clear Type B
010663-00021 | Super Al-Jax
010671-00004 | Hy-Test Sodium Hypochlorite
010707-00015 | Shell Aqualin Herbicide
010707-00016 | Magnacide S Slimicide
010707-00017 | Shell Aqualin Biocide
010932-00010 | 7410 Microbiocide
010932-00013 | Antimicrobial 7413
011350-00033 | Sigmaplane Ecol HS Antifouling Redbrown 5297 HS-Rd
011350-00034 | Sigmaplane Ecol HA Antofouling Redbrown 5294
011474-00040 | Sungro Reside Du
011474-00093 | Sungro Reside Du-B
011623-00047 | Barrier II
011715-00006 | Speer Insect Killer (with .35% Sbp-1382)
011715-00023 | Speer Equine Spray
011715-00047 | Speer Aircraft Insecticide Aerosol
011715-00091 | Magic Guard Automatic Sequential Insecticide
011715-00119 | Better World Dairy Spray
011715-00148 | Magic Guard Automatic Room Fogger Formula II
011715-00158 | Magic Guard with Rotenone/pyrethrins
011715-00159 | Speer E-Z Way Residual Crack & Crevice Injection System
011715-00165 | Better World Residual Roach and Flea Spray
011715-00169 | Better World Insecticide
011715-00173 | Speer Stable Spray
011715-00177 | Magic Guard Non-Flammable Wasp Spray
011715-00180 | Speer E-Z II Residual Spray
011715-00230 | Farnam Super-Sheen Wipe-Plus
011715-00234 | Farnam Wipe II Fly Protectant
011715-00235 | Faram Wipe-P Fly Protectant
011736-20001 | Sparkle
012014-00062 | Swim Pro 1000 Algaecide
012480-00001 | A 24-4 Algae Treatment
029909-00019 | Cardinal General Purpose Insecticide Spray
032802-00029 | Trichlorfon 6.2G Turf Granules
032977-00002 | Sterisol Germicide Concentrate
033025-00001 | Citromax Citronella Insect Repellent
033161-00012 | F-300R Fogging Compound
033354-00002 | Fresh Foam 26F
033354-00018 | Oxyfresh
034052-00002 | Bear-Cat Concentrate
034052-00015 | Bear-Cat Disinfectant
034282-00013 | Pine Odor Disinfectant
034282-00014 | Lemon Odor Disinfectant
034282-00015 | Mint Odor Disinfectant
034704-00694 | Clean Crop Acephate 80 DF Seed Protectant
034797-00081 | Qualis 0.5% Permethrin Spray
034810-00028 | Ultra
035054-00002 | Term-Out
035085-00002 | HBH Sodium Hypochlorite Solution
035138-00088 | Blast Away Bug Killer
035138-00089 | Aerochem General Purpose Granules
035307-00003 | Growers 455 Soluble Oil
035307-00004 | Growers 435 Soulble Oil
035512-00029 | Turf Pride with .5% Surflan Pre-Emergence Herbicide
035512-00034 | Turf Pride Weed & Feed/for St. Augustine & Centipede Lawns
035512-00044 | Turf Pride Fertilizer with Pen-Star II Herbicide
035895-00002 | Pool Baron's Rescue Algaecide Concentrate
036123-00001 | Wonder Fluff
038110-00004 | Max-Min Fly Control Mineral #2 with Rabon (r) Oral Larvicide
038110-00007 | Max-Min Horse Mineral with Rabon Oral Larvicide
038110-00009 | Fly Control Minerals with Rabon Oral Larvicide
039055-00001 | Sylvapine RPO
039412-00005 | Team 130 Root Destroyer
040810-00021 | Irgaguard B4000
040827-00001 | Florida Fertilizer Fc-435 Citrus Oil
042057-00096 | Morgro 2-In-1 Weed & Feed
042519-00019 | Dorsan 4E-45
042519-00020 | Dorsan 2E
042519-00021 | Dorsan-4E
042519-00023 | Dorsan Tech
042567-00002 | Quinolate 98
042750-00077 | Chlorothalonil 98% Technical
042964-00012 | F/H
043410-00007 | Fungicide 4T
043437-00001 | Dussek 6% Copper Naphthenate
043512-20203 | Drop Dead Roach Killer
044673-00001 | Disfecticide
045880-00001 | Chlorine Liquified Gas Under Pressure
046266-00001 | Chlorine Liquified Gas Under Pressure
046626-00001 | Agriblend
047075-00001 | Chlorine Liquified Gas Under Pressure
048211-00012 | Stomp-Out Prome-Con
048815-00001 | Net-Dip Disinfectant-Sanitizer Fungicide-Deodorizer
049405-00001 | Chlorine Liquified Gas Under Pressure
049547-00004 | Aien Pine Oil
049547-00009 | Alen 7% Sodium Hypochlorite Bleach Sanitizer
049547-00010 | Pinol
051036-00076 | Azinphosmethyl 2EC
051036-00130 | Azinphosmethyl 35W
051422-00001 | Heavy Duty Algaecide
051422-00002 | Algaecide
051422-00004 | Winterizer
051551-00001 | Chlorine Liquified Gas Under Pressure
052142-00006 | Barricade Permethrin Insecticide Spray
052637-00001 | Agi Insecticide Ear Tag
052991-00005 | Bedoukian Tufted Apple Bud Moth Technical Pheromone
053575-00020 | Isomate-CM/LR Pheromone
053883-00044 | Martins Rabon Cattle Dust
053883-00050 | Martin's Dipel Dust
053883-00056 | Martin's Pet Guard Super Dip
054287-00015 | Sawyer Redi Chlor Water Disinfection Tablets
054614-00010 | Tru Shock Tablets
054614-00011 | Tru Shock Granular
054614-00012 | Super Algyzine
054705-00012 | Hose'em Yard Insect Spray
055236-00001 | 303 Black 300 Copper Antifouling Paint
055260-00005 | Syllit 65w Fruit Fungicide
055431-00001 | Termiticide T/C
056159-00009 | Reppers Repellent Grains (shun Repellent Grain)
056261-00002 | MCH Bubble Cap
056261-00003 | Verbenone Pouch
057604-00002 | Clorine Liquified Gas
058111-00005 | Zap II Wasp and Hornet Killer
058199-00010 | Cyzer
058246-00001 | Nematrol
059893-00001 | Coustic-Glo Cleaner Sanitizer B2
061178-00006 | D-128
061282-00010 | Snail and Slug Lg Pelleted Bait
061282-00011 | Snail and Slug Ag Pelleted Bait
061483-00063 | Vulcan Premium Four Pound Penta (pcp 2) Concentrate
062190-00002 | Wolmanac Concentrate 50% (for Industrial Use Only)
062719-00312 | Drexel Atrazine 4F
062719-00313 | Atrazine 90
062719-00395 | Goal 2E Herbicide
062719-00400 | Goal 1.6E Herbicide
063709-00001 | Aankill 44
065072-00008 | KP 3505
066222-00088 | Prodiamine Technical
066534-00001 | Liquefied Chlorine Gas Under Pressure
067071-00003 | Acticide C98
067071-00004 | Acticide C40
067071-00008 | Acticide LG-W
067071-00009 | Acticide 14-WT
067071-00013 | Acticide RS-WT
067071-00014 | Acticide SPX-W
067071-00020 | Acticide 14 M
067071-00027 | Acticide 45M
067071-00032 | Acticide DA
067071-00033 | Acticide DG
067071-00034 | Acticide DC
067071-00035 | Acticide M20sE
067420-00001 | 2K7 Bugstick
067420-00002 | 2K7 Water Soluble Paks
067517-00005 | Rub-On Horse Insecticide
067517-00011 | Fly-Pel
067517-00024 | Face Fly Bomb
067517-00032 | General Carbaryl-10 Insecticide
067599-00002 | Copper Poxy
067603-00005 | Ground Zero
067603-00006 | F-1000 Disinfectant Sanitizer Deodorant
067603-00007 | Brevity Blue Liquid Disinfectant Scouring Creme
067603-00008 | S'gone Disinfectant
067603-00009 | Tru-Rite Bleach
067603-00010 | Super-Chlor Sodium Hypochlorite Solution
067760-00060 | Cyren Technical
067869-00041 | N2000 LF C
067869-00042 | N2000 LF P
068539-00005 | Fafard Growing Mix with Rootshield Granules
068543-00010 | Bengal Yard & Patio Outdoor Fogger
068543-00015 | Ultradust Insecticide
068543-00016 | Bengal Roach and Ant Spray III
068688-00022 | Elite Residual Mist Plus
068688-00026 | Elite Residual Mist Plus Concentrate
068688-00030 | Elite Flea and Tick Spray #8
068688-00031 | Elite Aloe Repellent Lotion #8
068688-00050 | Heartland Freeze Brand Wasp and Hornet Killer
068891-00001 | Superquik TM
068891-00003 | Propel Plant Growth Regulator
068891-00004 | Wilthin
068891-00005 | Enfrost
069529-00004 | Borasol-PT
069681-00004 | Clor Mor Chlorinated Tablets, “1”
069681-00005 | Clor Mor Chlorinated Tablets, “3”
069681-00009 | Clor Mor Chlorinating Sticks
070009-00001 | Ethylene Oxide 100
070271-00008 | Pure Bright Germicidal Bleach
070400-00001 | Harvestsaver
070400-00002 | Haysaver
070648-00001 | Biokryl I
070799-00008 | State Formula 362 No Rinse Cleaner/sanitizer
070799-00010 | State Sok
071089-00001 | Gib-4%
071532-00010 | LG Lambda-Cyhalothrin Technical
071532-00011 | Esfenstar Technical RU
071653-00003 | Cobra Crush
071653-00005 | Cobralin
071927-00001 | Dutch Trig
072087-00001 | Flea Scare
072106-00004 | Nulife Fall Winterizer Moss Cure and Lawn Food
072138-00002 | Real-Pine I Cleans Disinfects Deodorizes
072138-00003 | Real-Pine I Cleaner Disinfectant Deodorizer
072138-00005 | Pine-O-Pine Cleanser Disinfectant-Deodorant
072138-00007 | Sani-Lemon 22
072407-00001 | Sulphuric Acid Desiccant
072451-00003 | Mstrs ECB-2
072451-00006 | MSTRS OFM
072468-00002 | Betanix Plus
072581-00003 | Low-Temp Sanitizer
072647-00001 | Methyl Salicylate Manufacturing-Use Product
072647-00002 | Repelkote OC Cartons
072647-00004 | Repelkote Surfx Packaging
072839-00001 | Formic Acid Gel
072992-00002 | T344
072992-00003 | T427 Processing Solution
072992-00007 | T428 Vase Solution
072992-00008 | T333
073600-00002 | Sweetlix R.O.L. Rabon Molasses Block
073817-00001 | Rezistox
073817-00002 | Prodox Broad Spectrum Algaecide/fungicide
073873-00001 | Anti-Growth Concentrate
073873-00002 | Anti-Growth
074128-00001 | Chondrostereum Purpureum Strain Hq1 Concentrate
074128-00002 | Myco-Tech Paste
074152-00002 | Megagro Growth Stimulator Concentrate Gallon
074152-00004 | Megagro Growth Stimulator Concentrate
074326-00001 | No Mo Roaches
074500-00003 | Agenial Algaecide
074627-00004 | LMC 0.115 ICG Insecticide
074681-00005 | Copper Guard SCX 56 Marine Blue
074712-00001 | Specialchlor 90
074843-00001 | Buzz Off Insect Shield Concentrate
075126-00002 | EEKO Ball-L
075402-00001 | Hilo Ear Mite Remedy for Dogs and Cats
075449-00004 | Sodium Bichromate Crystal
075449-00005 | Sodium Bichromate Dry
075449-00006 | Chromic Acid Wp
075457-00003 | Anti-Pest-O RTU
075499-00010 | Plant Synergists Type Rite
075499-00013 | Plant Synergists Gib A4A7 Technical
075687-00001 | Synper 30-30
079529-00004 | Black Flag House & Garden Insect Killer Formula S
079529-00009 | Black Flag Ant & Roach Killer
079529-00011 | Black Flag Flying Insect Killer Formula A
079676-00015 | Acephate G-Pro 97 Insecticide
080227-00001 | Mosquito Breeding Blocker
080432-00001 | Nbi Hay Preservative
080697-00002 | Krop-Max
080982-20004 | Aroma
081117-00001 | Four Paws Keep Off! Dog & Cat Repellent
081198-00001 | Freegrow Headstart Sulf. Met. Herb.
081198-00002 | Mustang Met. Methyl DF

IV. Public Docket

Complete lists of registrations canceled for non-payment of the maintenance fee will also be available for reference during normal business hours in the OPP Regulatory Public Docket, Rm. S-4400, One Potomac Yard (South Building), 2777 S. Crystal Drive, Arlington, VA. Product-specific status inquiries may be made by telephone by calling toll-free 1-800-444-7255.

List of Subjects

Environmental protection, maintenance fees, pesticides and pests.

Dated: July 18, 2006.
James Jones,
Director, Office of Pesticide Programs.

[FR Doc. E6-12461 Filed 8-1-06; 8:45 a.m.]

BILLING CODE 6560-50-S